NATIONAL SCIENCE FOUNDATION

National Science Board Task Force on the NSB 60th Anniversary; Sunshine Act Meetings; Notice

The National Science Board's Task Force on the NSB 60th Anniversary, pursuant to NSF regulations (45 CFR Part 614), the National Science Foundation Act, as amended (42 U.S.C. 1862n-5), and the Government in the Sunshine Act (5 U.S.C. 552b), hereby gives notice in regard to the scheduling of meetings for the transaction of National Science Board business and other matters specified, as follows:

Date and Time: Tuesday, October 28, 2008 from 3 p.m. to 4 p.m.

Subject Matter: Discussion of ideas for the NSB 60th Anniversary.

Status: Open.

Place: This meeting will be held by teleconference originating at the National Science Board Office, National Science Foundation, 4201 Wilson Blvd., Arlington, VA 22230. Room 110 will be available to the public to listen to this teleconference meeting.

Please refer to the National Science Board Web site (http://www.nsf.gov/nsb) for information or schedule updates, or contact: Ann Ferrante, National Science Board Office, 4201 Wilson Blvd., Arlington, VA 22230. Telephone: (703) 292-7000.

Ann Ferrante,
Writer-Editor.

[FR Doc. E8-24304 Filed 10-10-08; 8:45 am]

BILLING CODE 7555-01-P